DEPARTMENT OF COMMERCE

Foreign-Trade Zones Board

[S-104-2023]

Foreign-Trade Zone 20; Application for Subzone; LL Flooring Services, LLC; Sandston, Virginia

An application has been submitted to the Foreign-Trade Zones (FTZ) Board by the Virginia Port Authority, grantee of FTZ 20, requesting subzone status for the facility of LL Flooring Services, LLC, located in Sandston, Virginia. The application was submitted pursuant to the provisions of the Foreign-Trade Zones Act, as amended (19 U.S.C. 81a-81u), and the regulations of the FTZ Board (15 CFR part 400). It was formally docketed on June 23, 2023.

The proposed subzone (79.95 acres) is located at 6115 Engineered Wood Way, Sandston, Virginia. No authorization for production activity has been requested at this time. The proposed subzone would be subject to the existing activation limit of FTZ 20.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is August 7, 2023. Rebuttal comments in response to material submitted during the foregoing period may be submitted during the subsequent 15-day period to August 22, 2023.

A copy of the application will be available for public inspection in the “Online FTZ Information Section” section of the FTZ Board's website, which is accessible via www.trade.gov/ftz.

For further information, contact Christopher Kemp at Christopher.Kemp@trade.gov.

Dated: June 23, 2023.
Elizabeth Whiteman,
Executive Secretary.

[FR Doc. 2023-13747 Filed 6-27-23; 8:45 am]

BILLING CODE 3510-DS-P